POSTAL REGULATORY COMMISSION

[Docket Nos. K2025-825; CP2021-68; CP2023-202; MC2025-847 and K2025-848; MC2025-848 and K2025-849; MC2025-849 and K2025-850; MC2025-850 and K2025-851; MC2025-851 and K2025-852; MC2025-852 and K2025-853; MC2025-853 and K2025-854; MC2025-854 and K2025-855; MC2025-855 and K2025-856; MC2025-856 and K2025-857; MC2025-857 and K2025-858; MC2025-858 and K2025-859; MC2025-859 and K2025-860; MC2025-860 and K2025-861; MC2025-861 and K2025-862; MC2025-862 and K2025-863; MC2025-863 and K2025-864; MC2025-864 and K2025-865; MC2025-865 and K2025-866; MC2025-866 and K2025-867; MC2025-867 and K2025-868; MC2025-868 and K2025-869]

New Postal Products

AGENCY: Postal Regulatory Commission.

ACTION: Notice.

SUMMARY: The Commission is noticing a recent Postal Service filing for the Commission's consideration concerning a negotiated service agreement. This notice informs the public of the filing, invites public comment, and takes other administrative steps.

DATES: Comments are due: December 20, 2024, and December 24, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Public Proceeding(s)

III. Summary Proceeding(s)

I. Introduction

Pursuant to 39 CFR 3041.405, the Commission gives notice that the Postal Service filed request(s) for the Commission to consider matters related to Competitive negotiated service agreement(s). The request(s) may propose the addition of a negotiated service agreement from the Competitive product list or the modification of an existing product currently appearing on the Competitive product list.

The public portions of the Postal Service's request(s) can be accessed via the Commission's website (http://www.prc.gov). Non-public portions of the Postal Service's request(s), if any, can be accessed through compliance with the requirements of 39 CFR 3011.301.¹

¹ See Docket No. RM2018-3, Order Adopting Final Rules Relating to Non-Public Information, June 27, 2018, Attachment A at 19-22 (Order No. 4679).

Section II identifies the docket number(s) associated with each Postal Service request, if any, that will be reviewed in a public proceeding as defined by 39 CFR 3010.101(p), the title of each such request, the request's acceptance date, and the authority cited by the Postal Service for each request. For each such request, the Commission appoints an officer of the Commission to represent the interests of the general public in the proceeding, pursuant to 39 U.S.C. 505 and 39 CFR 3000.114 (Public Representative). Section II also establishes comment deadline(s) pertaining to each such request.

The Commission invites comments on whether the Postal Service's request(s) identified in Section II, if any, are consistent with the policies of title 39. Applicable statutory and regulatory requirements include 39 U.S.C. 3632, 39 U.S.C. 3633, 39 U.S.C. 3642, 39 CFR part 3035, and 39 CFR part 3041. Comment deadline(s) for each such request, if any, appear in Section II.

Section III identifies the docket number(s) associated with each Postal Service request, if any, to add a standardized distinct product to the Competitive product list or to amend a standardized distinct product, the title of each such request, the request's acceptance date, and the authority cited by the Postal Service for each request. Standardized distinct products are negotiated service agreements that are variations of one or more Competitive products, and for which financial models, minimum rates, and classification criteria have undergone advance Commission review. See 39 CFR 3041.110(n); 39 CFR 3041.205(a). Such requests are reviewed in summary proceedings pursuant to 39 CFR 3041.325(c)(2) and 39 CFR 3041.505(f)(1). Pursuant to 39 CFR 3041.405(c)-(d), the Commission does not appoint a Public Representative or request public comment in proceedings to review such requests.

II. Public Proceeding(s)

1. Docket No(s).: K2025-825; Filing Title: Request of the United States Postal Service Concerning Functionally Equivalent Inbound Competitive Mult-Service Agreement with Foreign Postal Operator—FY25-3; Filing Acceptance Date: December 16, 2024; Filing Authority: 39 CFR 3041.315; Public Representative: Katalin Clendenin; Comments Due: December 24, 2024.

2. Docket No(s).: CP2021-68; Filing Title: USPS Request Concerning Amendment Five to Priority Mail Express, Priority Mail, First-Class Package Service & Parcel Select Contract 8, with Material Filed Under Seal; Filing Acceptance Date: December 16, 2024; Filing Authority: 39 CFR 3041.505; Public Representative: Arif Hafiz; Comments Due: December 20, 2024.

3. Docket No(s).: CP2023-202; Filing Title: USPS Request Concerning Amendment Two to Priority Mail Express, Priority Mail & USPS Ground Advantage Contract 1, with Material Filed Under Seal; Filing Acceptance Date: December 16, 2024; Filing Authority: 39 CFR 3041.505; Public Representative: Christopher Mohr; Comments Due: December 24, 2024.

4. Docket No(s).: MC2025-847 and K2025-848; Filing Title: USPS Request to Add Priority Mail Express, Priority Mail & USPS Ground Advantage Contract 1079 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

5. Docket No(s).: MC2025-848 and K2025-849; Filing Title: USPS Request to Add Priority Mail Express, Priority Mail & USPS Ground Advantage Contract 1080 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

6. Docket No(s).: MC2025-849 and K2025-850; Filing Title: USPS Request to Add Priority Mail Express, Priority Mail & USPS Ground Advantage Contract 1081 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

7. Docket No(s).: MC2025-850 and K2025-851; Filing Title: USPS Request to Add Priority Mail Express, Priority Mail & USPS Ground Advantage Contract 1082 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

8. Docket No(s).: MC2025-851 and K2025-852; Filing Title: USPS Request to Add Priority Mail Express, Priority Mail & USPS Ground Advantage Contract 1083 to the Competitive Product List and Notice of Filing Materials Under Seal; Filing Acceptance Date: December 16, 2024; Filing Authority: 39 U.S.C. 3642, 39 CFR 3035.105, and 39 CFR 3041.310; Public Representative: Katalin Clendenin; Comments Due: December 24, 2024.

9. Docket No(s).: MC2025-852 and K2025-853; Filing Title: USPS Request to Add Priority Mail Express, Priority Mail & USPS Ground Advantage Contract 1084 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

10. Docket No(s).: MC2025-853 and K2025-854; Filing Title: USPS Request to Add Priority Mail Express, Priority Mail & USPS Ground Advantage Contract 1085 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

11. Docket No(s).: MC2025-854 and K2025-855; Filing Title: USPS Request to Add Priority Mail Express, Priority Mail & USPS Ground Advantage Contract 1086 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

12. Docket No(s).: MC2025-855 and K2025-856; Filing Title: USPS Request to Add Priority Mail Express, Priority Mail & USPS Ground Advantage Contract 1087 to the Competitive Product List and Notice of Filing Materials Under Seal; Filing Acceptance Date: December 16, 2024; Filing Authority: 39 U.S.C. 3642, 39 CFR 3035.105, and 39 CFR 3041.310; Public Representative: Maxine Bradley; Comments Due: December 24, 2024.

13. Docket No(s).: MC2025-856 and K2025-857; Filing Title: USPS Request to Add Priority Mail Express, Priority Mail & USPS Ground Advantage Contract 1088 to the Competitive Product List and Notice of Filing Materials Under Seal; Filing Acceptance Date: December 16, 2024; Filing Authority: 39 U.S.C. 3642, 39 CFR 3035.105, and 39 CFR 3041.310; Public Representative: Jana Slovinska; Comments Due: December 24, 2024.

14. Docket No(s).: MC2025-857 and K2025-858; Filing Title: USPS Request to Add Priority Mail Express, Priority Mail & USPS Ground Advantage Contract 1089 to the Competitive Product List and Notice of Filing Materials Under Seal; Filing Acceptance Date: December 16, 2024; Filing Authority: 39 U.S.C. 3642, 39 CFR 3035.105, and 39 CFR 3041.310; Public Representative: Jana Slovinska; Comments Due: December 24, 2024.

15. Docket No(s).: MC2025-858 and K2025-859; Filing Title: USPS Request to Add Priority Mail Express, Priority Mail & USPS Ground Advantage Contract 1090 to the Competitive Product List and Notice of Filing Materials Under Seal; Filing Acceptance Date: December 16, 2024; Filing Authority: 39 U.S.C. 3642, 39 CFR 3035.105, and 39 CFR 3041.310; Public Representative: Katalin Clendenin; Comments Due: December 24, 2024.

16. Docket No(s).: MC2025-859 and K2025-860; Filing Title: USPS Request to Add Priority Mail Express, Priority Mail & USPS Ground Advantage Contract 1091 to the Competitive Product List and Notice of Filing Materials Under Seal; Filing Acceptance Date: December 16, 2024; Filing Authority: 39 U.S.C. 3642, 39 CFR 3035.105, and 39 CFR 3041.310; Public Representative: Katalin Clendenin; Comments Due: December 24, 2024.

17. Docket No(s).: MC2025-860 and K2025-861; Filing Title: USPS Request to Add Priority Mail Express, Priority Mail & USPS Ground Advantage Contract 1092 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

18. Docket No(s).: MC2025-861 and K2025-862; Filing Title: USPS Request to Add Priority Mail Express, Priority Mail & USPS Ground Advantage Contract 1093 to the Competitive Product List and Notice of Filing Materials Under Seal; Filing Acceptance Date: December 16, 2024; Filing Authority: 39 U.S.C. 3642, 39 CFR 3035.105, and 39 CFR 3041.310; Public Representative: Katalin Clendenin; Comments Due: December 24, 2024.

19. Docket No(s).: MC2025-862 and K2025-863; Filing Title: USPS Request to Add Priority Mail & USPS Ground Advantage Contract 543 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

20. Docket No(s).: MC2025-863 and K2025-864; Filing Title: USPS Request to Add Priority Mail & USPS Ground Advantage Contract 544 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

21. Docket No(s).: MC2025-864 and K2025-865; Filing Title: USPS Request to Add Priority Mail & USPS Ground Advantage Contract 545 to the Competitive Product List and Notice of Filing Materials Under Seal; Filing Acceptance Date: December 16, 2024; Filing Authority: 39 U.S.C. 3642, 39 CFR 3035.105, and 39 CFR 3041.310; Public Representative: Arif Hafiz; Comments Due: December 24, 2024.

22. Docket No(s).: MC2025-865 and K2025-866; Filing Title: USPS Request to Add Priority Mail & USPS Ground Advantage Contract 546 to the Competitive Product List and Notice of Filing Materials Under Seal; Filing Acceptance Date: December 16, 2024; Filing Authority: 39 U.S.C. 3642, 39 CFR 3035.105, and 39 CFR 3041.310; Public Representative: Jennaca Upperman; Comments Due: December 24, 2024.

23. Docket No(s).: MC2025-866 and K2025-867; Filing Title: USPS Request to Add Priority Mail & USPS Ground Advantage Contract 547 to the Competitive Product List and Notice of Filing Materials Under Seal; Filing Acceptance Date: December 16, 2024; Filing Authority: 39 U.S.C. 3642, 39 CFR 3035.105, and 39 CFR 3041.310; Public Representative: Jennaca Upperman; Comments Due: December 24, 2024.

24. Docket No(s).: MC2025-867 and K2025-868; Filing Title: USPS Request to Add Priority Mail & USPS Ground Advantage Contract 548 to the Competitive Product List and Notice of Filing Materials Under Seal; Filing Acceptance Date: December 16, 2024; Filing Authority: 39 U.S.C. 3642, 39 CFR 3035.105, and 39 CFR 3041.310; Public Representative: Christopher Mohr; Comments Due: December 24, 2024.

25. Docket No(s).: MC2025-868 and K2025-869; Filing Title: USPS Request to Add Priority Mail & USPS Ground Advantage Contract 549 to the Competitive Product List and Notice of Filing Materials Under Seal; Filing Acceptance Date: December 16, 2024; Filing Authority: 39 U.S.C. 3642, 39 CFR 3035.105, and 39 CFR 3041.310; Public Representative: Christopher Mohr; Comments Due: December 24, 2024.

III. Summary Proceeding(s)

None. See Section II for public proceedings.

This Notice will be published in the Federal Register.

Erica A. Barker,
Secretary.

[FR Doc. 2024-30479 Filed 12-19-24; 8:45 am]

BILLING CODE 7710-FW-P